DEPARTMENT OF ENERGY

Notice of Intent To Grant Exclusive License Between National Energy Technology Laboratory and Corrosion Solutions

AGENCY: National Energy Technology Laboratory, Department of Energy.

ACTION: Notice of Intent To Grant Exclusive License.

SUMMARY: This notice is issued in accordance with 35 U.S.C. 209(c)(1) and 37 CFR 404.7(a)(1)(i). The National Energy Technology Laboratory (NETL) hereby gives notice of its intent to grant an exclusive license to practice the inventions described and claimed in U.S. Patent No 7,553,517, issued June 30, 2009, entitled “Method of applying a cerium diffusion coating to a metallic alloy,” to Corrosion Solutions having its principal place of business in Eugene, Oregon. The inventions are owned by the United States of America as represented by the Department of Energy (DOE). The prospective exclusive license will comply with the terms and conditions of 35 U.S.C. 209 and 37 CFR 404.7.

DATES: Written comments or nonexclusive license applications are to be received at the address listed below no later than December 3, 2012. Objections submitted in response to this notice will not be made available to the public for inspection and, to the extent permitted by law, will not be released under the Freedom of Information Act, 5 U.S.C. 552.

ADDRESSES: Objections relating to the prospective exclusive license may be submitted to the Office of Chief Counsel, National Energy Technology Laboratory, P.O. Box 10940, Pittsburgh, PA 15236, or via facsimile at (412) 386-5949.

FOR FURTHER INFORMATION CONTACT: Jessica Sosenko, Technology Transfer Program Manager, U.S. Department of Energy, National Energy Technology Laboratory, P.O. Box 10940, Pittsburgh, PA 15236; Telephone (412) 386-7417; Email: jessica.sosenko@netl.doe.gov.

SUPPLEMENTARY INFORMATION: Section 209(c) gives DOE with authority to grant exclusive or partially exclusive licenses in department-owned inventions, where a determination can be made, among other things, that the desired practical application of the invention has not been achieved, or is not likely expeditiously to be achieved, under a nonexclusive license. The statute and implementing regulations (37 CFR 404) require that the necessary determinations be made after public notice and opportunity for filing written objections.

Corrosion Solutions, a new small business, has applied for an exclusive license to practice the inventions and has a plan for commercialization of the invention. DOE intends to grant the license, upon a final determination in accordance with 35 U.S.C. 209(c), unless, within 15 days of publication of this notice, NETL's Office of Chief Counsel (contact information listed above) receives in writing any of the following, together with the supporting documents:

(i) A statement from any person setting forth reasons why it would not be in the best interest of the United States to grant the proposed license; or

(ii) An application for a nonexclusive license to the invention, in which the applicant states that it already has brought the invention to practical application or is likely to bring the invention to practical application expeditiously.

The proposed license would be exclusive, subject to a license and other rights retained by the U.S. Government, and subject to a negotiated royalty. DOE will review all timely written responses to this notice and will grant the license if, after expiration of the 15-day notice period and after consideration of any written responses to this notice, a determination is made in accordance with Section 209(c) that the license is in the public interest.

Dated: October 26, 2012.
Anthony V. Cugini,
Director, National Energy Technology Laboratory.

[FR Doc. 2012-27928 Filed 11-15-12; 8:45 am]

BILLING CODE 6450-01-P